DEPARTMENT OF HEALTH AND HUMAN SERVICES

Centers for Medicare & Medicaid Services

[Document Identifier: CMS-10382]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR 1320.13. This is necessary to ensure compliance with an initiative of the Administration. We cannot reasonably comply with the normal clearance procedures due to an unexpected event as stated in 5 CFR 1320.13(a)(2)(iii). The use of the normal clearance procedures would cause a statutory deadline to be missed.

1. Type of Information Collection Request: New collection; Title of Information Collection: Medicaid Emergency Psychiatric Demonstration Use: Section 2707 of the Patient Protection and Affordable Care Act was enacted to implement a demonstration to study the effects of allowing Medicaid payment for the inpatient stabilization of a more serious mental health related problem. That is, to provide payment for inpatient stabilization for psychiatric patients aged 21 to 64 who express suicidal or homicidal gestures and are considered a danger to themselves or others.

By allowing coverage for inpatient admission for emergency psychiatric treatment otherwise prohibited by the Medicaid institutions for mental diseases exclusion, the Demonstration may improve access to appropriate psychiatric care, improve quality of care for Medicaid patients, and encourage greater availability of inpatient psychiatric beds, thereby reducing the necessity of psychiatric boarding.

As a condition for receiving payment under this Demonstration, a State shall be responsible for collecting and reporting information to the Centers for Medicare & Medicaid Services (CMS) about the conduct of the Demonstration in the State for the purposes of providing Federal oversight and the evaluation of the Demonstration and required to cooperate with the CMS evaluation team. CMS is also required to submit to Congress, a recommendation as to whether the Demonstration project should be continued after December 31, 2013, and expanded on a national basis.

The statute requires that a State seeking to participate in this Demonstration project shall submit an application that includes such information, provisions, and assurances necessary to assess the State's ability to conduct the Demonstration as compared with other State applicants. The State Medical Director will submit the Demonstration application proposal. Form Number: CMS-10382 (OMB#: 0938-New); Frequency: Once; Affected Public: Individuals or Households; Number of Respondents: 44; Total Annual Responses: 54; Total Annual Hours: 2,106. (For policy questions regarding this collection contact Diana Ayres 410-786-7203. For all other issues call 410-786-1326.)

CMS is requesting OMB review and approval of this collection by May 9, 2011, with a 180-day approval period. Written comments and recommendations will be considered from the public if received by the individuals designated below by May 4, 2011.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by May 4, 2011.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

3. By Facsimile or E-mail to OMB. OMB, Office of Information and Regulatory Affairs, Attention: CMS Desk Officer. Fax Number: (202) 395-6974. E-mail: OIRA_submission@omb.eop.gov.

Dated: April 1, 2011.
Michelle Shortt,
Director, Regulations Development Group, Office of Strategic Operations and Regulatory Affairs.

[FR Doc. 2011-8459 Filed 4-7-11; 8:45 am]

BILLING CODE 4120-01-P